DEPARTMENT OF THE INTERIOR

National Park Service

National Register of Historic Places; Notification of Pending Nominations

Nominations for the following properties being considered for listing in the National Register were received by the National Park Service before April 12, 2002. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-343-1836. Written or faxed comments should be submitted by May 19, 2003.

Beth L. Savage,
Acting Keeper of the National Register of Historic Places.

Alabama

Lee County

President's Mansion, Old, 277 W. Thach Ave., Auburn University, Auburn, 03000423

Arkansas

Dallas County

Prosperity Baptist Church, AR 8 W, Ramsey, 03000421

Pulaski County

Center Theater, 407 S. Main St., Little Rock, 03000422

California

Alameda County

Claremont Hotel, 41 Tunnel Rd., Oakland, 03000427

Los Angeles County

Hackett, Edward Alexander Kelley, House, 1317 S. Westlake Ave., Los Angeles, 03000428

Madera County

Chateau Colline, 10355 Wilshire Blvd., Los Angeles, 03000426

Orange County

Fullerton City Hall, 237 W. Commonwealth Ave., Fullerton, 03000424

Sacramento County

Westminster Presbyterian Church, 1300 N St., Sacramento, 03000425

Georgia

Morgan County

Rutledge Historic District, Centered along Main St., the Georgia Railroad (CSX), E. Dixis Hwy and Fairplay Rd., Rutledge, 03000429

Tennessee

Madison County

Hollywood Cemetery, 406 Hollywood Dr., Jackson, 03000430

Sullivan County

Bristol Commercial Historic District, Roughly along State, Piedmont, Moore, Shelby, Bank, Progress, 5th, 6th, 7th and 8th Sts., Bristol, 03000440 Texas

Tarrant County

Bratton, Andrew “Cap” and Emma Doughty, House, (Mansfield, Texas MPS) 310 E. Broad St., Mansfield, 03000432

Tarrant County

Buchanan-Hayter-Witherspoon House, (Mansfield, Texas MPS) 306 E. Broad St., Mansfield, 03000433

Chorn, Lester H. and Mabel Bryant, House, (Mansfield, Texas MPS) 303 E. Broad St., Mansfield, 03000434

Man, Ralph Sandiford and Julia Boisseau, House, (Mansfield, Texas MPS) 604 W. Broad St., Mansfield, 03000435

Wallace—Hall House, (Mansfield, Texas MPS) 210 S. Main St., Mansfield, 03000436

Webb County

Barrio Azteca Historic District, Roughly bounded by I-35, Matamoros St., Arroyo Zacate, and the Rio Grande, Laredo, 03000431

Virginia

Albemarle County

Mirador (Boundary Increase), 7459 Mirador Farm Rd., Greenwood, 03000444

Arlington County

Cherrydale Historic District, Roughly bounded by Lorcom Ln., N. Utah and N. Taylor Sts., and I-66, Arlington, 03000461

Crossman, George, House, 2501 N. Underwood St., Arlington, 03000455

Lyon Park Historic District, Roughly bounded by 10th St. N, Arlington Blvd., and N. Irving St., Arlington, 03000437

Maywood Historic District, Roughly bounded by Lorcom Ln., Spout Run Parkway, I-66, Lee Highway, N. Oakland St., N. Nelson St., and N. Lincoln St., Arlington, 03000460

Saegmuller House, 5101 Little Falls Rd., Arlington, 03000453

Walter Reed Gardens Historic District, (Garden Apartments, Apartment Houses and Apartment Complexes in Arlington County, Virginia MPS) 2900-2906 13th St. S, 2900-2914 13th Rd S, 1301-1319 S. Walter Reed Dr., Arlington, 03000451

Bristol Independent City

Bristol Commercial Historic District, Roughly along State, Piedmont, Moore, Shelby, Bank, Progress, 5th, 6th, 7th, and 8th Sts., Bristol, 03000441

Caroline County

Bowling Green Historic District, Roughly along and bounded by Bowling Green Bypass, Broadus Ave., Lakewood Rd., N. Main St., and Paige Rd., Bowling Green, 03000439

Fairfax County

Gunnell, William, House, 600 Insbruck Ave., Great Falls, 03000447

Hanover County

Selwyn, 6279 Powhite Farm Dr., Mechanicsville, 03000445

Henrico County

Beth Elon, 4600 Nine Mile Rd., Richmond, 03000446

Loudoun County

Ketoctin Baptist Church, Approx. 2 mi. N of VA 7 at the jct of Allder School Rd. and Ketoctin Church Rd., Round Hill, 03000452

Unison Historic District, Area including parts of Unison and Bloomfield Rds., Middleburg, 03000442

Mecklenburg County

Colonial Theatre, 220 S. Mecklenburg Ave., South Hill, 03000448

Norfolk Independent City

Ballentine Place Historic District, Roughly bounded by Cromwell Ave., Cape Henry Ave., McKann Ave., and Lafayetter Blvd., Norfolk (Independent City), 03000459

Chesterfield Heights Historic District, Roughly bounded by the E Branch of Elizabeth R, Ballentine Blvd., Sedgewick St. and I-264, Norfolk (Independent City), 03000443

Page County

Luray Downtown Historic District, Roughly E. Main St., W. Main St., S. Court St., and s. Broad St., Luray, 03000438

Roanoke County

Pleasant Grove, 4377 W. Main St., Salem, 03000449

Roanoke Independent City

Burrell Memorial Hospital, 611 McDowell St., Roanoke (Independent City), 03000450

Virginian Railway Passenger Station, 1402 Jefferson St. SE, Roanoke (Independent City), 03000456

Stafford County

Government Island—Wiggington's Island—Brent Island—Aquia Quarry—Public Quarry—Aquia Sandstone Quarry, Address Restricted, Stafford, 03000457

Wythe County

Sanders Farm, 3908 Fort Chiswell Rd., Max Meadows, 03000454

West Virginia

Doddridge County

West Union Downtown Historic District, Roughly bounded by B&O RR, Court St, and Cottage St., West Union, 03000458

A request for REMOVAL has been made for the following resource:

Oregon

Mutnomah County

Hochapfel, Edward C., House 1520 SW 11th Ave., Portland, 83002171

A request for a move has been made for the following resource:

Oregon

Washington County

Tualatin Academy, Pacific University campus, Forest Grove, 74001722

[FR Doc. 03-10909 Filed 5-1-03; 8:45 am]

BILLING CODE 4310-70-P